DEPARTMENT OF EDUCATION

Notice of Proposed Information Collection Requests

AGENCY: Department of Education.

ACTION: Correction notice.

SUMMARY: On August 7, 2001, a 60-day notice inviting comment from the public was inadvertently published for the Federal Direct Loan Program and Federal Family Education Loan Program Teacher Loan Forgiveness Form in the Federal Register (Volume 66, Number 152) dated August 7, 2001. This notice amends the public comment period to 30 days. The Leader, Regulatory Information Management, Office of the Chief Information Officer, hereby issues a correction notice on the submission for OMB review as required by the Paperwork Reduction Act of 1995.

DATES: Interested persons are invited to submit comments on or before September 6, 2001.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address LAUREN_WITTEN BERG@OMB.EOP.GOV.

Requests for copies of the proposed information collection request may be accessed from http://edicsweb.ed.gov, or should be addressed to Vivian Reese, Department of Education, 400 Maryland Avenue, SW, Room 5624, Regional Office Building 3, Washington, DC 20202-4651 or should be electronically mailed to the internet address OCIO_IMB_Issues@ed.gov, or should be faxed to 202-708-9346.

FOR FURTHER INFORMATION CONTACT: Joseph Schubart at his internet address Joe.Schubart@ed.gov.

Dated: August 8, 2001.
John Tressler,
Leader, Regulatory Information Management Group, Office of the Chief Information Officer.

[FR Doc. 01-20359 Filed 8-13-01; 8:45 am]

BILLING CODE 4000-01-P